DEPARTMENT OF THE INTERIOR

Office of the Secretary

Proposed Appointment to the National Indian Gaming Commission

AGENCY: Office of the Secretary, Interior.

ACTION: Notice.

SUMMARY: Before appointing a member to the National Indian Gaming Commission, the Secretary must provide public notice and allow a comment period. Notice is hereby given of the proposed appointment of Daniel J. Little as an associate member of the National Indian Gaming Commission for a term of 3 years.

DATES: Comments must be received before April 25, 2013.

ADDRESSES: Submit comments to the Director, Office of the Executive Secretariat, United States Department of the Interior, 1849 C Street NW., Mail Stop 7229, Washington, DC 20240.

FOR FURTHER INFORMATION CONTACT: John A. Strylowski, Office of the Executive Secretariat, United States Department of the Interior, 1849 C Street NW., Mail Stop 7229, Washington, DC 20240; telephone 202-208-3181.

SUPPLEMENTARY INFORMATION: The Indian Gaming Regulatory Act (25 U.S.C. 2701 et seq.) established the National Indian Gaming Commission, composed of three full-time members. Under the provisions of the Act, Commission members serve for a term of 3 years. The Chair is appointed by the President with the advice and consent of the Senate and the two associate members are appointed by the Secretary of the Interior. Before appointing an associate member to the Commission, the Secretary is required to “publish in the Federal Register the name and other information the Secretary deems pertinent regarding a nominee for membership on the commission and * * * allow a period of not less than thirty days for receipt of public comments.” 25 U.S.C. 2704(b)(2)(B).

The Secretary proposes to reappoint Daniel J. Little as an associate member of the Commission for a term of 3 years. Daniel J. Little has served as an associate member of the Commission for the past 3 years. In this capacity, Daniel J. Little worked closely with the Tribal Advisory Committee to review changes to part 543 of the Commission's regulations regarding Class II Minimum Internal Controls, which successfully resulted in a final rule issued on September 21, 2012. Mr. Little has also been instrumental in undertaking a top priority of the Commission—a critical review of internal operations, including a review of all internal policies and procedures. In short, Mr. Little's accomplishments are invaluable contributions to the Commission, and his proposed reappointment seeks to ensure continuity for this good and valuable work.

During more than a decade of experience working for tribal and state governments, Mr. Little developed an in-depth knowledge of the Indian Gaming Regulatory Act and the regulatory process governing casino operations. This experience has given Mr. Little a thorough knowledge of the laws and regulations governing Class II and Class III gaming and casinos. By virtue of his work on gaming issues and his extensive knowledge of relevant laws and regulations, Daniel J. Little is eminently qualified to serve as a member of the National Indian Gaming Commission.

Mr. Little does not have any financial interests that would make him ineligible to serve on the Commission under 25 U.S.C. 2704(b)(5)(B) or (C).

Any person wishing to submit comments on this proposed reappointment of Daniel J. Little may submit written comments to the address listed above. Comments must be received by April 25, 2013.

Dated: March 20, 2013.
Ken Salazar,
Secretary.

[FR Doc. 2013-06853 Filed 3-25-13; 8:45 am]

BILLING CODE 4310-10-P